DEPARTMENT OF ENERGY

Federal Energy Regulatory Commission

Combined Notice of Filings #1

Take notice that the Commission received the following exempt wholesale generator filings:

Docket Numbers: EG24-127-000.

Applicants: Bartonsville Energy Facility, LLC.

Description: Bartonsville Energy Facility, LLC submits Notice of Self-Certification of Exempt Wholesale Generator Status.

Filed Date: 3/1/24.

Accession Number: 20240301-5231.

Comment Date: 5 p.m. ET 3/22/24.

Take notice that the Commission received the following electric rate filings:

Docket Numbers: ER12-1561-005; ER15-1348-003; ER13-823-008; ER17-424-010.

Applicants: Footprint Power Salem Harbor Development LP, Castleton Commodities Merchant Trading L.P., Roseton Generating LLC, LDH Rensselaer LLC.

Description: Supplement to June 30, 2023, Triennial Market Power Analysis for Northeast Region of Rensselaer Generating LLC, et al.

Filed Date: 2/29/24.

Accession Number: 20240229-5345.

Comment Date: 5 p.m. ET 3/21/24.

Docket Numbers: ER24-1376-000.

Applicants: Yuma Solar Energy LLC.

Description: Baseline eTariff Filing: Application for Market Based Rate to be effective 3/1/2024.

Filed Date: 2/29/24.

Accession Number: 20240229-5303.

Comment Date: 5 p.m. ET 3/21/24.

Docket Numbers: ER24-1377-000.

Applicants: Midcontinent Independent System Operator, Inc.

Description: 205(d) Rate Filing: 2024-03-01_Credit Policy and Related Tariff Revisions to be effective 5/1/2024.

Filed Date: 3/1/24.

Accession Number: 20240301-5068.

Comment Date: 5 p.m. ET 3/22/24.

Docket Numbers: ER24-1378-000.

Applicants: Midcontinent Independent System Operator, Inc., Ameren Services Company.

Description: 205(d) Rate Filing: Midcontinent Independent System Operator, Inc. submits tariff filing per 35.13(a)(2)(iii: 2024-03-01_4248 Ameren Missouri-Ameren Missouri E&P (Castle Bluff) to be effective 3/2/2024.

Filed Date: 3/1/24.

Accession Number: 20240301-5069.

Comment Date: 5 p.m. ET 3/22/24.

Docket Numbers: ER24-1379-000.

Applicants: PJM Interconnection, L.L.C.

Description: 205(d) Rate Filing: Amendment to ISA, SA No. 1848; Queue No. O38 to be effective 3/2/2024.

Filed Date: 3/1/24.

Accession Number: 20240301-5075.

Comment Date: 5 p.m. ET 3/22/24.

Docket Numbers: ER24-1380-000.

Applicants: PJM Interconnection, L.L.C.

Description: 205(d) Rate Filing: Amendment to ISA, SA No. 2078; Queue No. P22 to be effective 3/2/2024.

Filed Date: 3/1/24.

Accession Number: 20240301-5076.

Comment Date: 5 p.m. ET 3/22/24.

Docket Numbers: ER24-1381-000.

Applicants: Entergy Louisiana, LLC.

Description: Tariff Amendment: ELL-SRMPA PRA Termination to be effective 2/29/2024.

Filed Date: 3/1/24.

Accession Number: 20240301-5109.

Comment Date: 5 p.m. ET 3/22/24.

Docket Numbers: ER24-1382-000.

Applicants: Horus Louisiana 1, LLC.

Description: Baseline eTariff Filing: HORUS Louisiana 1, LLC MBR Application Filing to be effective 4/1/2024.

Filed Date: 3/1/24.

Accession Number: 20240301-5135.

Comment Date: 5 p.m. ET 3/22/24.

Docket Numbers: ER24-1383-000.

Applicants: Duke Energy Florida, LLC.

Description: 205(d) Rate Filing: DEF-SECI-SEPA Dynamic Transfer Agmt RS No. 428 to be effective 5/1/2024.

Filed Date: 3/1/24.

Accession Number: 20240301-5157.

Comment Date: 5 p.m. ET 3/22/24.

Docket Numbers: ER24-1384-000.

Applicants: Tampa Electric Company.

Description: Compliance filing: Compliance Filing—FERC Order 2023 to be effective 5/1/2024.

Filed Date: 3/1/24.

Accession Number: 20240301-5175.

Comment Date: 5 p.m. ET 3/22/24.

Docket Numbers: ER24-1385-000.

Applicants: PacifiCorp.

Description: 205(d) Rate Filing: Construction Agreement Barnes Butte to be effective 5/1/2024.

Filed Date: 3/1/24.

Accession Number: 20240301-5182.

Comment Date: 5 p.m. ET 3/22/24.

Docket Numbers: ER24-1386-000.

Applicants: Bartonsville Energy Facility, LLC.

Description: Baseline eTariff Filing: Application for Market-Based Rate Authority to be effective 4/29/2024.

Filed Date: 3/1/24.

Accession Number: 20240301-5213.

Comment Date: 5 p.m. ET 3/22/24.

Docket Numbers: ER24-1387-000.

Applicants: PJM Interconnection, L.L.C.

Description: 205(d) Rate Filing: Revisions to Schedule Selection in Day-Ahead Energy Market to be effective 5/1/2024.

Filed Date: 3/1/24.

Accession Number: 20240301-5215.

Comment Date: 5 p.m. ET 3/22/24.

Docket Numbers: ER24-1388-000.

Applicants: Consolidated Edison Company of New York, Inc.

Description: 205(d) Rate Filing: 89 IEDR Phase 2 on 3-1-2024 to be effective 3/1/2024.

Filed Date: 3/1/24.

Accession Number: 20240301-5234.

Comment Date: 5 p.m. ET 3/22/24.

Docket Numbers: ER24-1389-000.

Applicants: Arizona Public Service Company.

Description: 205(d) Rate Filing: Rate Schedule No. 319, NWPP Certificate of Concurrence to be effective 5/1/2024.

Filed Date: 3/1/24.

Accession Number: 20240301-5239.

Comment Date: 5 p.m. ET 3/22/24.

Docket Numbers: ER24-1390-000.

Applicants: Five Elements Energy II LLC.

Description: Baseline eTariff Filing: Baseline new to be effective 3/2/2024.

Filed Date: 3/1/24.

Accession Number: 20240301-5249.

Comment Date: 5 p.m. ET 3/22/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 1, 2024.
Debbie-Anne A. Reese,
Acting Secretary.

[FR Doc. 2024-04912 Filed 3-7-24; 8:45 am]

BILLING CODE 6717-01-P